DEPARTMENT OF AGRICULTURE

Natural Resources Conservation Service

[Docket No. NRCS-2023-0012]

Notice of Intent To Prepare an Environmental Impact Statement for the Joint System Canal Project, Jackson County, OR

AGENCY: Natural Resources Conservation Service, USDA.

ACTION: Notice of Intent (NOI) to prepare an Environmental Impact Statement (EIS).

SUMMARY: The Natural Resources Conservation Service (NRCS) Oregon State Office announces its intent to prepare a Watershed Plan and EIS for the Joint System Canal Project, located approximately 4 miles east of Eagle Point, in Jackson County, Oregon. The proposed Watershed Plan will examine alternatives through the EIS process for modernizing the Joint System Canal to improve agricultural water management. Medford Irrigation District (MID) is the sponsoring local organization for the project and Rogue River Valley Irrigation District (RRVID) is a partner organization. NRCS is requesting comments to identify significant issues, potential alternatives, and analyses relevant to the proposed action from all interested individuals, Federal and State agencies, and Tribes.

DATES: We will consider comments that we receive by September 5, 2023. Comments received after close of the comment period will be considered to the extent possible.

ADDRESSES: We invite you to submit comments in response to this notice. You may submit your comments through one of the methods below:

• Federal eRulemaking Portal: Go to http://www.regulations.gov and search for docket ID NRCS-2023-0012. Follow the online instructions for submitting comments; or

• Mail or Hand Delivery: Jack Friend, District Manager, Medford Irrigation District, 5045 Jacksonville Hwy., Central Point, OR 97502. For written comments, specify the docket ID NRCS-2023-0012.

All comments received will be posted without change and made publicly available on www.regulations.gov.

FOR FURTHER INFORMATION CONTACT: Gary Diridoni, telephone: (503) 414-3092; email: Gary.Diridoni@USDA.gov for questions related to submitting comments; or visit the project website at: https://oregonwatershedplans.org/medford-id. Individuals who require alternative means for communication should contact the U.S. Department of Agriculture (USDA) Target Center at (202) 720-2600 (voice and text telephone (TTY)) or dial 711 for Telecommunications Relay service (both voice and text telephone users can initiate this call from any telephone).

SUPPLEMENTARY INFORMATION:

Purpose and Need

The primary purpose of the proposed watershed project is to improve agricultural water management by modernizing the Joint System Canal in Jackson County, Oregon. Watershed planning is authorized under the Watershed Protection and Flood Prevention Act of 1954 (Pub. L. 83-566), as amended, and the Flood Control Act of 1944 (Pub. L. 78-534).

The proposed project is needed due to existing system water losses, inefficient water delivery, and the risk of infrastructure failure. The Joint System Canal's age and deteriorating condition have reduced the water delivery reliability for agricultural, residential, industrial, and recreational uses. Catastrophic failure of the canal would flood adjacent properties and require water deliveries to be stopped while the canal was fixed, which could have large impacts to crops and users that rely on that water.

MID and RRVID jointly own, operate, and maintain the Joint System Canal. The two irrigation districts collectively divert water from North Fork Little Butte Creek and South Fork Little Butte Creek into the North Fork Canal and the South Fork Canal, respectively. The North Fork and South Fork canals merge to form the 13-mile Joint System Canal, which conveys water to the Bradshaw Drop pipeline. At the Bradshaw Drop, the canal splits into MID's and RRVID's systems. Since the Joint System Canal is at the head of MID's and RRIVD's systems, the districts have identified eliminating this failure risk as critical to maintaining agricultural water supplies.

The proposed project would modernize the Joint System Canal and associated siphons from the junction of the North Fork Canal and South Fork Canal to the Bradshaw Drop. The aging, earthen and concrete-lined canal loses approximately 6.7 cubic feet per second of water, or 4,850 acre-feet annually, due to seepage and evaporation. These water losses are equivalent to approximately 13 percent of the water conveyed annually and contribute to water supply challenges for the districts and local farms. Modernizing the canal would significantly reduce water losses, dramatically reduce the risk of failure, and improve water delivery reliability.

MID and RRVID deliver water to irrigate approximately 2,225 farms and orchards on 21,758 irrigated acres in Jackson County, Oregon. Agricultural producers on these farms and orchards grow high value pears, wine grapes, and other fruit, as well as hay and other crops. Agriculture is an essential part of the Rogue Valley economy and agricultural production depends on reliable water deliveries from MID and RRVID. The districts also deliver water for outdoor residential use, industrial users, golf courses and cemeteries.

Estimated federal funds required for the construction of the proposed action may exceed $25 million. The proposed action will therefore require congressional approval per the 2018 Agriculture Appropriations Act amended funding threshold. In accordance with 7 CFR 650.7(a)(2), an EIS is required for projects requiring congressional approval.

Preliminary Proposed Action and Alternatives

The objective of the EIS is to formulate and evaluate alternatives for agricultural water management on the Joint System Canal. The EIS is expected to evaluate three alternatives: two action alternatives and a no action alternative. The alternatives that may be considered for detailed analysis include:

—Alternative 1— No Action: Taking no action would consist of activities carried out if no Federal action or funding were provided. No watershed project would be implemented, and the Joint System Canal and associated infrastructure would not be modernized.

—Alternative 2— Proposed Action: This alternative would include the following system improvement measures including: piping the canal in primarily the existing alignment, with potentially small sections in new alignments, siphon replacement, access road improvements, and upgraded turnouts. Options for each measure would be evaluated.

—Alternative 3—This alternative would include the following system improvement measures including: canal reshaping and lining in the existing alignment, canal stabilization, siphon replacement, access road improvements, and upgraded turnouts. Options for each measure would be evaluated.

Summary of Expected Impacts

As mentioned above, initial cost estimates of the proposed actions have determined that the Federal contribution to construction will exceed $25 million, requiring congressional approval. Per 7 CFR 650.7, an EIS is required when projects require congressional action. The NRCS Oregon State Conservationist has determined that the preparation of an EIS is required for this watershed project. An EIS will be prepared as required by section 102(2)(C) of the National Environmental Policy Act (NEPA); the Council on Environmental Quality Regulations (40 CFR parts 1500-1508); and NRCS regulations that implement NEPA in 7 CFR part 650. In addition, the EIS will be prepared in accordance with the Principles, Requirements, and Guidelines for Water and Land Related Resources Implementation Studies (PR&Gs, USDA NRCS 2017).¹ NEPA compliance will cover the analysis of various resource issues listed below, while compliance with the PR&Gs will include additional assessments such as analyzing effects to ecosystem services and a National Economic Efficiency Analysis.

¹ USDA NRCS. (2017). Guidance for Conducting Analyses Under the Principles, Requirements, and Guidelines for Water and Land Related Resources Implementation Studies and Federal Water Resource Investments. https://www.usda.gov/directives/dm-9500-013.

Environmental resources in the Joint System Canal Project area consist of the natural and human-made environment. Resource issues to be identified and addressed in the EIS include Cultural Resources, Economics, Soils, Land Use, Environmental Justice, Endangered and Threatened Species, Wildlife, Hydrology, Wetlands, Vegetation, and Climate Change. Other resources may be identified through the scoping process.

Anticipated Permits and Authorizations

The following permits and authorizations are anticipated to be required:

• Endangered Species Act (ESA) Consultation. Consultation with the U.S. Fish and Wildlife Service will be conducted as required by the Endangered Species Act of 1973.

• Tribal Consultation. Consultation with the relevant Tribes will be conducted.

• Section 106 Consultation. Consultation with the Oregon State Historic Preservation Office and the Tribal Historic Preservation Office will be conducted as required by the National Historic Preservation Act (NHPA) of 1966.

• Clean Water Act (CWA) Section 404 Permit. Implementation of the proposed Federal action would require a CWA section 404 permit from the U.S. Army Corps of Engineers. Permitting with the U.S. Army Corps of Engineers regarding potential impacts will be finalized prior to final design and construction.

Schedule of Decision-Making Process

A Draft EIS (DEIS) will be prepared and circulated for review and comment by agencies, Tribes, consulting parties, and the public for at least 45 days as required by 40 CFR 1503.1, 1502.20, 1506.11, and 1502.17, and 7 CFR 650.13. The DEIS is anticipated to be published in the Federal Register approximately 16 months after publication of this NOI. A Final EIS is anticipated to be published within 6 months of completion of the public comment period for the DEIS.

NRCS will decide whether to implement one of the alternatives as evaluated in the Final EIS. A NRCS Record of Decision (ROD) will be completed after the required 30-day waiting period review process (36 CFR part 218 or 36 CFR part 219) has concluded. The responsible federal official and decision maker for NRCS is the Oregon State Conservationist.

Public Scoping Process

Public scoping meetings will be held in the Medford, Oregon area to determine the scope of the analysis to be presented in the DEIS. Meetings are scheduled to occur in the summer or fall of 2023 and will be held at public venues. Meeting locations and times will be determined closer to the dates of the events. Public notices will be placed in local newspapers and on the NRCS, MID, and RRVID websites. Additionally, a letter providing details on the public meetings and the scoping comment and objection processes will be sent to federal and state agencies, Tribes, local landowners, and interested parties.

Public scoping meetings provide an opportunity to review and evaluate the Joint System Canal Project alternatives, express concern or support, and gain further information regarding the Joint System Canal Project. Comments received, including the names and addresses of those who comment, will be part of the public record. Comments submitted anonymously will be accepted and considered.

Identification of Potential Alternatives, Information, and Analyses

NRCS invites agencies, Tribes, consulting parties, and individuals who have special expertise, legal jurisdiction, or interest to provide comments concerning the scope of the analysis and identification of potential alternatives, information, and analyses relevant to the Proposed Action in writing.

NRCS will use the scoping process to help fulfill the public involvement process under section 106 of the NHPA (54 U.S.C. 306108), as provided in 36 CFR 800.2(d)(3). Information about historic and cultural resources within the area potentially affected by the proposed project will assist NRCS in identifying and evaluating impacts to resources in the context of both NEPA and section 106.

NRCS will consult with Native American tribes on a government-to-government basis in accordance with 36 CFR 800.2 and 800.3, Executive Order 13175, and other policies. Tribal concerns, including impacts on Indian Trust Assets and potential impacts to cultural resources and historic properties, will be given full consideration.

Authorities

This document is published pursuant to the NEPA regulations regarding publication of a NOI to issue an EIS (40 CFR 1501.9(d)). This EIS will be prepared to evaluate potential environmental impacts as required by section 102(2)(C) of NEPA; the Council on Environmental Quality regulations (40 CFR parts 1500-1508); and NRCS regulations that implement NEPA in 7 CFR part 650. Watershed planning is authorized under the Watershed Protection and Flood Prevention Act of 1954, as amended, (Pub. L. 83-566) and the Flood Control Act of 1944 (Pub. L. 78-534).

Federal Assistance Programs

The title and number of the Federal assistance programs, as found in the Assistance Listing,² to which this document applies, is 10.904, Watershed Protection and Flood Prevention.

² See https://sam.gov/content/assistance-listings.

Executive Order 12372

Executive Order 12372, “Intergovernmental Review of Federal Programs,” requires consultation with State and local officials that would be directly affected by proposed Federal financial assistance. The objectives of the Executive Order are to foster an intergovernmental partnership and a strengthened federalism, by relying on State and local processes for State and local government coordination and review of proposed Federal financial assistance and direct Federal development. This Watershed Plan is subject to the provisions of Executive Order 12372, which requires intergovernmental consultation with State and local officials.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone) or dial 711 for Telecommunications Relay Service (both voice and text telephone users can initiate this call from any phone). Additionally, program information may be made available in languages other than English.

To file a program discrimination complaint, complete the USDA Program Discrimination Complaint Form, AD-3027, found online at: https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Ronald Alvarado,
Oregon State Conservationist, Natural Resources Conservation Service.

[FR Doc. 2023-15212 Filed 7-18-23; 8:45 am]

BILLING CODE 3410-16-P